DEPARTMENT OF AGRICULTURE

National Institute of Food and Agriculture

7 CFR Part 3434

RIN 0524-AA39

Hispanic-Serving Agricultural Colleges and Universities (HSACU)

AGENCIES: National Institute of Food and Agriculture, USDA.

ACTION: Final rule.

SUMMARY: This rule updates our regulations to show a list of institutions that are granted HSACU certification by the Secretary and are eligible for HSACU programs for the period starting October 1, 2012 and ending September 30, 2013.

DATES: This rule is effective November 16, 2012 and applicable October 1, 2012.

FOR FURTHER INFORMATION CONTACT: Matthew Lockhart; Senior Policy Specialist; National Institute of Food and Agriculture; U.S. Department of Agriculture; STOP 2299; 1400 Independence Avenue SW.; Washington, DC 20250-2299; Voice: 202-559-5088; Fax: 202-401-7752; Email: mlockhart@nifa.usda.gov.

SUPPLEMENTARY INFORMATION:

HSACU Institutions for Fiscal Year 2013

This rule makes changes to the existing list of institutions in Appendix B of 7 CFR part 3434. The list of institutions is amended to reflect the institutions that are granted HSACU certification by the Secretary and are eligible for HSACU programs for the period starting October 1, 2012, and ending September 30, 2013.

Certification Process

As stated in 7 CFR part 3434, an institution must meet the following criteria to receive HSACU certification: (1) Be a Hispanic-Serving Institution (HSI), (2) offer agriculture-related degrees, and (3) award at least 15% of agriculture-related degrees to Hispanic students over the two most recent academic years.

NIFA obtained the latest report from the U.S. Department of Education's National Center for Education Statistics that lists all HSIs and the degrees conferred by these institutions (completions data) during the 2010-11 academic year. NIFA used this report to identify HSIs that conferred a degree in an instructional program that appears in Appendix A of 7 CFR part 3434 and to confirm that over the 2009-10 and 2010-11 academic years at least 15% of the degrees in agriculture-related fields were awarded to Hispanic students.

The updated list of HSACUs is based on (1) completions data from 2009-10 and 2010-11, and (2) enrollment data from Fall 2011. NIFA identified 80 institutions that will meet the eligibility criteria and receive HSACU certification for FY 2013 (October 1, 2012 to September 30, 2013).

Appeal Process

NIFA will permit HSIs that are not granted HSACU certification to submit an appeal within 30 days of the publication of this notice. The appellant must submit a request for review to the NIFA official specified in this notice with details on the nature of the disagreement and include supporting documents.

Classification

This rule relates to internal agency management. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, as amended by the Small Business Regulatory Enforcement Fairness Act of 1996, 5 U.S.C. 601 et seq., or the Congressional Review Act, 5 U.S.C. 801 et seq., and thus is exempt from the provisions of those Acts. This rule contains no information collection or recordkeeping requirements under the Paperwork Reduction Act of 1995 (44 U.S.C. 3501 et seq.).

List of Subjects in 7 CFR Part 3434

Administrative practice and procedure; Agricultural research, education, extension; Hispanic-Serving Institutions; Federal assistance.

Title 7, part 3434 of the Code of Federal Regulations is amended accordingly as set forth below:

PART 3434—HISPANIC-SERVING AGRICULTURAL COLLEGES AND UNIVERSITIES CERTIFICATION PROCESS

1. The authority citation for Part 3434 continues to read as follows:

Authority: 7 U.S.C. 3103.

2. Revise Appendix B to part 3434 to read as follows:

Appendix B to Part 3434—List of HSACU institutions, 2012-2013.

The institutions listed in this appendix are granted HSACU certification by the Secretary and are eligible for HSACU programs for the period starting October 1, 2012, and ending September 30, 2013. Institutions are listed alphabetically under the state of the school's location, with the campus indicated where applicable.

Arizona (3)

Central Arizona College

Phoenix College

Pima Community College

California (26)

Allan Hancock College

Bakersfield College

California State Polytechnic University-Pomona

California State University-Bakersfield

California State University-Fresno

California State University-Fullerton

California State University-Long Beach

California State University-Monterey Bay

California State University-San Bernardino

College of the Sequoias

Fullerton College

Golden West College

Hartnell College

Imperial Valley College

MiraCosta College

Modesto Junior College

Monterey Peninsula College

Mt. San Antonio College

Porterville College

Reedley College

San Diego Mesa College

San Joaquin Delta College

Santa Ana College

Southwestern College

West Hills College Coalinga

Whittier College

Colorado (1)

Trinidad State Junior College

Florida (4)

Florida International University

Miami Dade College

Nova Southeastern University

Saint Thomas University

Illinois (2)

City Colleges of Chicago-Harold Washington College

Triton College

New Mexico (8)

Central New Mexico Community College

Eastern New Mexico University-Main Campus

New Mexico Highlands University

New Mexico Institute of Mining and Technology

Northern New Mexico College

Santa Fe Community College

University of New Mexico-Main Campus

Western New Mexico University

New York (4)

CUNY Bronx Community College

CUNY City College

CUNY LaGuardia Community College

Mercy College

Puerto Rico (15)

Bayamon Central University

Institute Tecnologico de Puerto Rico-Manati

Inter American University of Puerto Rico-Aguadilla

Inter American University of Puerto Rico-Bayamon

Inter American University of Puerto Rico-Metro

Inter American University of Puerto Rico-Ponce

Inter American University of Puerto Rico-San German

Pontifical Catholic University of Puerto Rico-Ponce

Universidad Del Turabo

Universidad Metropolitana

University of Puerto Rico-Arecibo

University of Puerto Rico-Humacao

University of Puerto Rico-Medical Sciences Campus

University of Puerto Rico-Rio Piedras Campus

University of Puerto Rico-Utuado

Texas (16)

Houston Community College

Lee College

Midland College

Palo Alto College

South Plains College

Southwest Texas Junior College

Texas A&M International University

Texas A&M University-Corpus Christi

Texas A&M University-Kingsville

Texas State Technical College-Harlingen

University of Texas at Brownsville

University of Texas at El Paso

University of Texas at San Antonio

University of Texas—Pan American

University of Houston

University of the Incarnate Word

Washington (1)

Wenatchee Valley College

Done in Washington, DC, this 26th day of October, 2012.
Sonny Ramaswamy,
Director, National Institute of Food and Agriculture.

[FR Doc. 2012-27739 Filed 11-15-12; 8:45 am]

BILLING CODE 3410-22-P